POSTAL RATE COMMISSION

[Docket No. MC2006-7; Order No. 1476]

Stamped Stationery

AGENCY: Postal Rate Commission.

ACTION: Notice of new docket.

SUMMARY: The Commission has determined that Stamped Stationery the Postal Service offers to the general public meets the definition of a “postal service.” This order institutes a mail classification docket for the purpose of developing classification language and a fee schedule for Stamped Stationery. Conducting this docket will allow interested persons to participate in developing appropriate classification provisions and fees.

DATES: Deadline for the Postal Service to file a request to establish the stamped stationery classification or, in the absence of a request, date for termination of docket: February 26, 2007; deadline for notices of intervention: March 26, 2007 (28 days after filing of Request).

ADDRESSES: File all documents referred to in this order electronically via the Commission's Filing Online system at http://www.prc.gov.

FOR FURTHER INFORMATION CONTACT: Stephen L. Sharfman, 202-789-6820.

SUPPLEMENTARY INFORMATION: Notice is hereby given that pursuant to 39 U.S.C. 3623(b), the Commission is instituting a mail classification case for the purpose of receiving a Request from the Postal Service for a recommended decision establishing a classification and fee schedule for Stamped Stationery.

In Order No. 1475, issued contemporaneously herewith, the Commission held Stamped Stationery to be a postal service.¹ As explained in that order, the Commission found maintaining the status quo for a brief interim period to be in the public interest. Id. at 12, et seq. This approach provides the Postal Service a reasonable interval to prepare its Request without disrupting the Stamped Stationery market or causing the Postal Service to incur any costs that might be occasioned by withdrawal of the product.

¹ PRC Order No. 1475, Docket No. C2004-3, August 24, 2006.

Although its qualities, including design and purpose, make it a postal service, Stamped Stationery is, nonetheless, a specialty item, which, among other things, no mailer is required to purchase. Under the circumstances, a novel pricing approach may be warranted for Stamped Stationery.

By signaling a willingness to consider a novel pricing approach, the Commission hopes to encourage the Postal Service and interested persons to consider innovative rate designs suitable for this specialty product. See id. at 13-15. In Docket No. C2004-3, pleadings addressed fee levels for Stamped Stationery. Although those arguments were not germane to the jurisdictional issue, they appear, at least at first blush, to be somewhat problematic. Consequently, in suggesting that a creative pricing approach may be appropriate, the Commission hopes to focus interested persons on the challenge at hand and perhaps to temper rote reliance on any preconceived fee structures.

The Commission's observations may also have the salutary effect of encouraging discussion among interested parties concerning an acceptable fee structure. With the threshold issue resolved, this possibility would not appear to be an unobtainable goal. It may, however, prove to be elusive. This guidance simply reflects the Commission's preliminary views. It is not intended to limit any interested persons' option, and participants remain free to present evidence and argument as they wish.

To facilitate discussions among interested persons the Commission will allow notices of intervention to be filed in this proceeding. Intervention, at this stage, will permit intervenors, including the Office of the Consumer Advocate, to participate in any pre-or post-filing conference the Postal Service may wish to convene. To the extent such conference(s) may be convened, any such discussions would be deemed privileged in any proceeding before the Commission.

Sunset date. To ensure this docket proceeds in an orderly fashion, the Commission establishes a due date for the filing of a request of February 26, 2007. Absent a request or other filing related thereto filed on or before that date, this docket will terminate and be considered withdrawn as of February 26, 2007.

Representation of the general public. In conformance with section 3624(a) of title 39, the Commission designates Shelley S. Dreifuss, director of the Commission's Office of the Consumer Advocate, to represent the interests of the general public in this proceeding. Pursuant to this designation, Ms. Dreifuss will direct the activities of Commission personnel assigned to assist her and, upon request, will supply their names for the record. Neither Ms. Dreifuss nor any of the assigned personnel will participate in or provide advice on any Commission decision in this proceeding.

Ordering Paragraphs

It is ordered:

1. The Commission establishes Docket No. MC2006-7 for the purpose of receiving a request from the Postal Service for a recommended decision establishing a classification and fee schedule for Stamped Stationery.

2. The Commission will sit en banc in this proceeding.

3. Notices of intervention are due no later than 28 days following the submission of the Postal Service Request.

4. Shelley S. Dreifuss, director of the Commission's Office of the Consumer Advocate, is designated to represent the interests of the general public.

5. The due date for filing a request to establish the Stamped Stationery classification in this proceeding is February 26, 2007.

6. Absent a request or other filing related thereto filed on or before February 26, 2007, this docket will terminate and be considered withdrawn as of February 26, 2007.

7. The Secretary shall arrange for publication of this document in the Federal Register.

Dated: August 25, 2006.
By the Commission.
Steven W. Williams,
Secretary.

[FR Doc. E6-14408 Filed 8-29-06; 8:45 am]

BILLING CODE 7710-FW-P